DEPARTMENT OF ENERGY

Federal Energy Regulatory Commission

Combined Notice of Filings

Take notice that the Commission has received the following Natural Gas Pipeline Rate and Refund Report filings:

Docket Numbers: RP20-980-003.

Applicants: East Tennessee Natural Gas, LLC.

Description: Compliance filing ETNG Compliance Filing—Docket No. RP20-980 to be effective 1/1/2021.

Filed Date: 12/31/20.

Accession Number: 20201231-5029.

Comments Due: 5 p.m. ET 1/12/21.

Docket Numbers: RP21-343-001.

Applicants: Dauphin Island Gathering Partners.

Description: Tariff Amendment: Negotiated Rate Filing Amendment 12-31-2020 to be effective 1/1/2021.

Filed Date: 12/31/20.

Accession Number: 20201231-5009.

Comments Due: 5 p.m. ET 1/12/21.

Docket Numbers: RP21-351-000.

Applicants: Columbia Gas Transmission, LLC.

Description: § 4(d) Rate Filing: CCRM 2021 to be effective 2/1/2021.

Filed Date: 12/31/20.

Accession Number: 20201231-5006.

Comments Due: 5 p.m. ET 1/12/21.

Docket Numbers: RP21-352-000.

Applicants: Millennium Pipeline Company, LLC.

Description: Compliance filing 2020 Penalty Revenue Crediting Report.

Filed Date: 12/31/20.

Accession Number: 20201231-5008.

Comments Due: 5 p.m. ET 1/12/21.

Docket Numbers: RP21-353-000.

Applicants: Cove Point LNG, LP.

Description: § 4(d) Rate Filing: Cove Point—Initial PVIC Filing to be effective 2/1/2021.

Filed Date: 12/31/20.

Accession Number: 20201231-5010.

Comments Due: 5 p.m. ET 1/12/21.

Docket Numbers: RP21-354-000.

Applicants: Northern Border Pipeline Company.

Description: § 4(d) Rate Filing: Negotiated Rate Agmt—Scout Energy TQ742F to be effective 1/1/2021.

Filed Date: 12/31/20.

Accession Number: 20201231-5012.

Comments Due: 5 p.m. ET 1/12/21.

Docket Numbers: RP21-355-000.

Applicants: Trailblazer Pipeline Company LLC.

Description: § 4(d) Rate Filing: TPC 2020-12-31 Negotiated Rate Agreements to be effective 1/1/2021.

Filed Date: 12/31/20.

Accession Number: 20201231-5013.

Comments Due: 5 p.m. ET 1/12/21.

Docket Numbers: RP21-356-000.

Applicants: Rockies Express Pipeline LLC.

Description: § 4(d) Rate Filing: REX 2020-12-31 Negotiated Rate Agreements to be effective 1/1/2021.

Filed Date: 12/31/20.

Accession Number: 20201231-5014.

Comments Due: 5 p.m. ET 1/12/21.

Docket Numbers: RP21-357-000.

Applicants: Cheyenne Connector, LLC.

Description: § 4(d) Rate Filing: CC 2020-12-31 Negotiated Rate Agreement Filing to be effective 1/1/2021.

Filed Date: 12/31/20.

Accession Number: 20201231-5015.

Comments Due: 5 p.m. ET 1/12/21.

Docket Numbers: RP21-358-000.

Applicants: El Paso Natural Gas Company, L.L.C.

Description: § 4(d) Rate Filing: Negotiated Rate Agreement (Conoco) to be effective 2/1/2021.

Filed Date: 12/31/20.

Accession Number: 20201231-5018.

Comments Due: 5 p.m. ET 1/12/21.

Docket Numbers: RP21-359-000.

Applicants: Northern Natural Gas Company.

Description: § 4(d) Rate Filing: 20201231 Negotiated Rate to be effective 1/1/2021.

Filed Date: 12/31/20.

Accession Number: 20201231-5019.

Comments Due: 5 p.m. ET 1/12/21.

Docket Numbers: RP21-360-000.

Applicants: Eastern Gas Transmission and Storage, Inc.

Description: § 4(d) Rate Filing: Eastern GTS—December 31, 2020 Nonconforming Service Agreement to be effective 2/1/2021.

Filed Date: 12/31/20.

Accession Number: 20201231-5023.

Comments Due: 5 p.m. ET 1/12/21.

Docket Numbers: RP21-361-000.

Applicants: Texas Eastern Transmission, LP.

Description: § 4(d) Rate Filing: Negotiated Rates—Shell 911778 eff 01-01-2021 to be effective 1/1/2021.

Filed Date: 12/31/20.

Accession Number: 20201231-5024.

Comments Due: 5 p.m. ET 1/12/21.

Docket Numbers: RP21-362-000.

Applicants: Texas Eastern Transmission, LP.

Description: § 4(d) Rate Filing: Negotiated Rates—Various Releases eff 01-01-2021 to be effective 1/1/2021.

Filed Date: 12/31/20.

Accession Number: 20201231-5027.

Comments Due: 5 p.m. ET 1/12/21.

Docket Numbers: RP21-363-000.

Applicants: Southern Star Central Gas Pipeline, Inc.

Description: § 4(d) Rate Filing: Vol. 2- Negotiated Rate Agreement—Scout Energy Group V to be effective 1/1/2021.

Filed Date: 12/31/20.

Accession Number: 20201231-5036.

Comments Due: 5 p.m. ET 1/12/21.

Docket Numbers: RP21-364-000.

Applicants: Rockies Express Pipeline LLC.

Description: § 4(d) Rate Filing: REX 2020-12-31 Non-Conforming Negotiated Rate Amendment to be effective 1/1/2021.

Filed Date: 12/31/20.

Accession Number: 20201231-5046.

Comments Due: 5 p.m. ET 1/12/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 4, 2021.
Nathaniel J. Davis, Sr.,
Deputy Secretary.

[FR Doc. 2021-00132 Filed 1-7-21; 8:45 am]

BILLING CODE 6717-01-P